DEPARTMENT OF THE INTERIOR

Bureau of Reclamation

South Delta Improvements Program, Sacramento-San Joaquin Bay Delta, CA

AGENCY: Bureau of Reclamation, Interior.

ACTION: Notice of change to public hearing schedule.

SUMMARY: The Notice of Availability of the Draft Environmental Impact Statement/Environmental Impact Report and notice of public meetings and hearings was published in the Federal Register on November 10, 2005 (70 FR 68475). The Bureau of Reclamation is correcting the public hearing dates from 2005 to 2006 and changing the dates, times, and locations.

DATES: The new public hearing dates and times are:

• January 24, 2006, 9 a.m. to 12 noon, Sacramento, CA.

• January 25, 2006, 10 a.m. to 12 noon, Los Angeles, CA.

• January 26, 2006, 7 p.m. to 9 p.m., Stockton, CA.

ADDRESSES: The public hearing locations are:

• California Bay Delta Authority, 650 Capitol Mall, Bay Delta Room, Sacramento, CA (proper identification required to enter building; no picture phones allowed.)

• Los Angeles County Metropolitan Transportation Authority, One Gateway, Los Angeles, CA.

• Department of General Services Auditorium, 31 East Channel Street, Stockton, CA.

FOR FURTHER INFORMATION CONTACT: Ms. Sammie Cervantes, Reclamation, at 916-978-5189, or e-mail: scervantes@mp.usbr.gov.

Frank Michny,
Regional Environmental Officer, Mid-Pacific Region.

[FR Doc. E5-8190 Filed 12-30-05; 8:45 am]

BILLING CODE 4310-MN-P